DEPARTMENT OF THE INTERIOR

Bureau of Land Management

[ID-957-1420-BJ]

Idaho: Filing of Plats of Survey

AGENCY: Bureau of Land Management, Interior.

ACTION: Notice of filing of plats of surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are:

This supplemental plat was prepared to show amended lottings, created by the segregation of Mineral Survey No. 3278 in section 4, and Mineral Survey No. 3279 in sections 9 and 10, T. 4 S., R. 44 E., Boise Meridian, Idaho, was accepted April 11, 2006.

The plat representing the dependent resurvey of a portion of the east boundary, subdivisional lines, and boundaries of certain Mineral Surveys, T. 48 N., R. 3 E., Boise Meridian, Idaho, was accepted May 10, 2006.

The plat representing the dependent resurvey of a portion of the Sixth Auxiliary Meridian East (east boundary), and a portion of the subdivisional lines, and the subdivision of section 13, and a metes-and-bounds survey in section 13, T. 6 N., R. 24 E., Boise Meridian, Idaho, was accepted December 9, 2003 and filed May 24, 2006.

The plat representing the dependent resurvey of portions of the east boundary, the subdivisional lines, the 1959-1968 Fixed and Limiting Boundaries in section 13, and Tract 37, and the survey of the 1994-1998 meanders of the Snake River in section 13, T. 5 N., R. 38 E., Boise Meridian, Idaho, was accepted June 9, 2006.

The plat representing the dependent resurvey of a portion of the First Standard Parallel South (south boundary of Township 6 South, Range 41 East), a portion of the east boundary, and a portion of the subdivisional lines, and the subdivision of section 1, T. 7 S., R. 41 E., Boise Meridian, Idaho, was accepted June 22, 2006.

Dated: July 13, 2006.
Stanley G. French,
Chief Cadastral Surveyor for Idaho.

[FR Doc. E6-11464 Filed 7-18-06; 8:45 am]

BILLING CODE 4310-GG-P